DEPARTMENT OF THE INTERIOR

National Park Service

[NPS-WASO-NRNHL-17822; PPWOCRADI0, PCU00RP14.R50000]

National Register of Historic Places; Notification of Pending Nominations and Related Actions

Nominations for the following properties being considered for listing or related actions in the National Register were received by the National Park Service before February 28, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by April 15, 2015. Before including your address, phone number, email address, or other personal identifying information in your comment, you should be aware that your entire comment—including your personal identifying information—may be made publicly available at any time. While you can ask us in your comment to withhold your personal identifying information from public review, we cannot guarantee that we will be able to do so.

Dated: March 10, 2015.
J. Paul Loether,
Chief, National Register of Historic Places/National Historic Landmarks Program.

COLORADO

Jefferson County

District No. 17 School—Medlen School, (Rural School Buildings in Colorado MPS), Address Restricted, Morrison, 15000139

IOWA

Polk County

Plymouth Place, 4111 Ingersoll Ave., Des Moines, 15000140

KANSAS

Cherokee County

Kansas Route 66 Historic District—North Baxter Springs, (Route 66 in Kansas MPS), N. Willow Ave. SE. 50th St., Baxter Springs, 15000141

Clark County

Girl Scout Little House, (New Deal-Era Resources of Kansas MPS), 448 W. 6th Ave., Ashland, 15000142

Cowley County

Strother Field Tetrahedron Wind Indicator, (World War II-Era Aviation-Related Facilities of Kansas), 22215 Tupper St., Winfield, 15000143

Hodgeman County

St. Mary's Catholic Church, 14920 SE. 232 Rd., Kinsley, 15000144

Labette County

Parsonian Hotel, The, 1725 Broadway Ave., Parsons, 15000145

Marion County

Bown—Corby School, (Public Schools of Kansas MPS), 412 N. 2nd St., Marion, 15000146

Montgomery County

Washington School, (Public Schools of Kansas MPS), 300 E. Myrtle St., Independence, 15000147

Morris County

Hermit's Cave on Belfry Hill, E. of N. Belfry St., generally from Columbia to Conn Sts., Council Grove, 15000148

Wabaunsee County

Fix Farmstead, (Agriculture-Related Resources of Kansas MPS), 34554 Old K-10 Rd., Alma, 15000149

MONTANA

Madison County

Doncaster Round Barn, Riverside Dr., Twin Bridges, 15000150

NEW JERSEY

Essex County

Eighteenth Avenue School, 229-243 18th Ave., Newark, 15000151

TEXAS

Collingsworth County

State Highway 203 (Old TX 52) Bridge at Salt Fork of the Red River, (Road Infrastructure of Texas, 1866-1965 MPS), TX 203 at Salt Fork of Red R., Wellington, 15000152

Palo Pinto County

State Highway 16, Brazos River Bridge Segment, (Road Infrastructure of Texas, 1866-1965 MPS), TX 16 from 7.4 mi. NE. of US 180 to jct. of TX 16 & TX 254, Graford, 15000153

[FR Doc. 2015-07274 Filed 3-30-15; 8:45 am]

BILLING CODE 4312-51-P